DEPARTMENT OF AGRICULTURE

Rural Housing Service

Rural Business-Cooperative Service

Rural Utilities Service

2014 Farm Bill Implementation Listening Session—Rural Community College Coordinated Strategy

AGENCY: Rural Housing Service, Rural Business-Cooperative Service, and Rural Utilities Service, USDA.

ACTION: Notice, Correction.

SUMMARY: On September 25, 2014, Rural Development published a notice concerning the 2014 Farm Bill Implementation Listening Session—Rural Community College Coordinated Strategy. The phone number for the conference was incorrectly stated in one location.

DATES: Effective on Thursday, September 25, 2014.

FOR FURTHER INFORMATION CONTACT: Dexter Pearson, 202-401-9790, Email: dexter.pearson@wdc.usda.gov. Persons with disabilities who require alternative means for communication (Braille, large print, audio tape, etc.) should contact the USDA Target Center at (202) 720-2600 (voice and TDD).

Correction

In the Federal Register of September 25, 2014, FR Doc. #2014-22827 on page 57505 in the second column, correct phone number should read:

Dial 1-888-469-0566 and enter Conference ID: 3499699.

Dated: September 26, 2014.
Doug O'Brien,
Acting Under Secretary, Rural Development.

[FR Doc. 2014-23577 Filed 10-2-14; 8:45 am]

BILLING CODE 3410-XV-P